INTERNATIONAL TRADE COMMISSION

[Investigation No. 332-537]

Olive Oil: Conditions of Competition Between U.S. and Major Foreign Supplier Industries

AGENCY: United States International Trade Commission.

ACTION: Institution of investigation and scheduling of hearing.

SUMMARY: Following receipt on September 12, 2012, of a request from the Committee on Ways and Means (Committee) of the House of Representatives under section 332(g) of the Tariff Act of 1930 (19 U.S.C. 1332(g)), the U.S. International Trade Commission (Commission) instituted investigation No. 332-537, Olive Oil: Conditions of Competition between U.S. and Major Foreign Supplier Industries.

DATES:

November 14, 2012: Deadline for filing requests to appear at the public hearing.

November 21, 2012: Deadline for filing prehearing briefs and statements.

December 5, 2012: Public hearing.

December 12, 2012: Deadline for filing posthearing briefs and statements.

February 12, 2013: Deadline for filing all other written submissions.

August 12, 2013: Transmittal of Commission report to the Committee.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Project leader Brendan Lynch (202-205-3313 or brendan.lynch@usitc.gov) or deputy project leader Alison Rozema (202-205-3458 or alison.rozema@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As requested by the Committee, the Commission will conduct an investigation and prepare a report on the conditions of competition between U.S. and major foreign supplier industries. As requested and to the extent that information is publicly available, the report will include the following—

1. An overview of the commercial olive oil industry in the United States and major supplier countries, including production of olives for olive oil processing, planted acreage and new plantings, processing volumes, processing capacity, carry-over inventory, and consumption;

2. Information on the international market for olive oil, including U.S. and foreign supplier imports and exports of olive oil in its various forms, olive oil trade between the European Union and North African countries, and a history of the tariff treatment and classification of olive oil in the United States and major supplier countries;

3. A qualitative and, to the extent possible, quantitative assessment of the role of imports, standards and grading, prices, and other factors on olive oil consumption in the U.S. market; and

4. A comparison of the competitive strengths and weaknesses of the commercial olive production and olive oil processing industries in the major producing countries and the United States, including factors such as industry structure, input production costs and availability, processing technology, product innovation, government support and other government intervention, exchange rates, and pricing and marketing regimes, plus the steps each respective industry is taking to increase its competitiveness.

The Committee asked that the report focus primarily on the period 2008-2012 and that the Commission deliver its report by August 12, 2013. The Committee also stated that it intends to make the Commission's report public.

Public Hearing: The Commission will hold a public hearing in connection with this investigation at the U.S. International Trade Commission Building, 500 E Street SW., Washington, DC, beginning at 10:30 a.m. on Wednesday, December 5, 2012. Requests to appear at the public hearing should be filed with the Secretary not later than 5:15 p.m., November 14, 2012, in accordance with the requirements in the “Submissions” section below. All prehearing briefs and statements should be filed with the Secretary not later than 5:15 p.m., November 21, 2012; and all posthearing briefs and statements responding to matters raised at the hearing should be filed with the Secretary not later than 5:15 p.m., December 12, 2012. All hearing-related briefs and statements should be filed in accordance with the requirements for filing written submissions set out below. In the event that, as of the close of business on November 14, 2012, no witnesses are scheduled to appear at the hearing, the hearing will be canceled. Any person interested in attending the hearing as an observer or nonparticipant may call the Office of the Secretary (202-205-2000) after November 14, 2012, for information concerning whether the hearing will be held.

Written Submissions: In lieu of or in addition to participating in the hearing, interested parties are invited to file written submissions concerning this investigation. All written submissions should be addressed to the Secretary, and all such submissions (other than prehearing and posthearing briefs and statements) should be received not later than 5:15 p.m., February 12, 2013. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available for inspection by interested parties.

In the request letter, the Committee stated that it intends to make the Commission's report available to the public in its entirety, and asked that the Commission not include any confidential business information in the report it sends to the Committee. Any confidential business information received by the Commission in this investigation and used in preparing this report will not be published in a manner that would reveal the operations of the firm supplying the information.

By order of the Commission.
Issued: October 1, 2012.
William R. Bishop,
Hearings and Meetings Coordinator.

[FR Doc. 2012-24529 Filed 10-4-12; 8:45 am]

BILLING CODE 7020-02-P